NATIONAL SCIENCE FOUNDATION

Advisory Committee for Environmental Research and Education Notice of Meeting

In accordance with the Federal Advisory Committee Act (Pub. L. 92-463, as amended), the National Science Foundation announces the following meeting:

Name: Advisory Committee for Environmental Research and Education (9487).

Dates: September 23, 2014, 8:00 a.m.-5:00 p.m., September 24, 2014, 8:00 a.m.-2:00 p.m.

Place: National Science Foundation, 4201 Wilson Blvd., Stafford I, Rm. 1235, Arlington, Virginia 22230.

Type of Meeting: Open.

Contact Person: Linda A. Deegan, National Science Foundation, 4201 Wilson Blvd., Arlington, Virginia 22230. Phone 703-292-7870.

Minutes: May be obtained from the contact person listed above.

Purpose of Meeting: To provide advice, recommendations, and oversight concerning support for environmental research and education.

Agenda

Tuesday, September 23, 2014 8:00 a.m.-5:00 p.m.

• Update on recent NSF environmental activities

• Update on NSF's efforts on Broader Impacts

• Report to AC from Food Systems Working Group—Next Steps

• Report to AC from Diversity Working Group—Next Steps

Wednesday, September 24, 2014 8:00 a.m.-2:00 p.m.

• Meeting with the NSF Director

• Discussion of Future Directions for NSF Research Portfolio for Environmental Science

Dated: August 6, 2014.
Suzanne Plimpton,
Acting, Committee Management Officer.

[FR Doc. 2014-18960 Filed 8-11-14; 8:45 am]

BILLING CODE 7555-01-P